DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions or certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 4/23/2010 Through 5/12/2010
Firm | Address | Date accepted for filing | Products
Piolax Corporation | 139 Etowah Industrial Ct., Canton, GA 30114 | 4/27/2010 | The firm produces plastic automotive components/fasteners; primary manufacturing material is plastic.
Surface Products, Inc | 18623 Northline Drive, Cornelius, NC 28031 | 4/27/2010 | The firm produces counter-tops; manufacturing materials include granite, solid surface & engineered stone.
BesTech Tool Corp | 1605 Corporate Center Drive, West Bend, WI 53095 | 4/28/2010 | Stamped and machined metal parts.
Victor Insulator, Inc | 280 Maple Ave., Victor, NY 14564 | 5/4/2010 | Electrical porcelain insulators.
Argent International, Inc | 41016 Concept Drive, Plymouth, MI 48170 | 5/4/2010 | Self-adhesive sheet, tape and strip parts.
UPCO, Inc | P.O. Box 725, Claremore, OK 74018 | 5/6/2010 | UPCO manufactures various oilfield products to include sucker and pony rods, sinker bars and pup joints.
Photovac, Inc | 300 Second Avenue, Waltham, MA 02451 | 5/7/2010 | Photovac, Inc. manufactures hand-held instruments for detection, measurement, analysis and monitoring of volatile organic compounds (VOCs) in air, soil or groundwater.
Pine Door Manufacturing, Inc | P.O. Box 178; 3225 Old Darby, MT 59829 | 5/4/2010 | Product: Flush doors. Materials: Wood, stain, varnish, glue, inlay, sawing, planing, sanding equipment. Process: Plane and sand wood, cut wood pieces, do inlay, glue, sand, stain, varnish, add hardware, inspect, ship.
Sioux Corporation | One Sioux Plaza; P.O. Box Beresford, SD 57004 | 5/5/2010 | Service industry machinery, specializing in high pressure cleaning equipment.
Dakota Micro, Inc | 8659 148th Ave., SE., Cayuga, ND 58013 | 5/4/2010 | Dakota Micro manufactures the AgCam system, a video camera and monitor system for agricultural applications. The systems are produced using electrical components, which are assembled using either line production or hand assembly into the AgCam systems.
New Standard Corporation, Inc | 74 Commerce Way, York, PA 17406 | 5/4/2010 | New Standard is a manufacturer of metal products for various industries. Products are stamped, fabricated, welded and/or assembled. Metal products—different types of steel, copper pressure leaf filters.
Quality Rolling & Deburring Inc | 135 South Main Street, Thomaston, CT 06787 | 5/5/2010 | Quality Rolling & Deburring Inc. is a metal cleaning and finishing service manufacturer. They finish parts with copper, zinc, nickel, gold and bright tin.
HY-C Company, Inc | 2107 N. 14th Street, St. Louis, MO 63106 | 5/12/2010 | Fireplace articles made of steel and copper.
AGL Corporation | P.O. Box 189, Jacksonville, MO 72076 | 5/12/2010 | Laser and machine control systems.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: May 12, 2010.
Bryan Borlik,
Program Director.

[FR Doc. 2010-11961 Filed 5-18-10; 8:45 am]

BILLING CODE 3510-24-P